NATIONAL AERONAUTICS AND SPACE ADMINISTRATION

[Notice (06-043)]

Privacy Act of 1974; Privacy Act System of Records

AGENCY: National Aeronautics and Space Administration (NASA).

ACTION: Notice of proposed revisions to an existing Privacy Act system of records.

SUMMARY: The National Aeronautics and Space Administration proposes to revise an existing system of records titled “Johnson Space Center Exchange Activities Records” (JSC 72XOPR), last published on December 13, 1999 (64 FR 69568). This system of records is being revised to allow additional information to be collected from people who participate in social, sports, wellness activities and other similar activities sponsored by the NASA Johnson Space Center (JSC) Exchange, to update the categories of individuals covered by the system, to update the categories of records in the system, and to update routine uses. The additional categories of individuals include spouses and dependents of current or past civil servants or contractor employees and others assigned to work at NASA. The additional categories of records in the system include personal body composition, fitness and exercise measures; medical history and physician releases as they pertain to exercise; facility usage records, membership and service accounts receivable and other pertinent information. The new routine uses allow for the development and implementation of programs for the health and welfare of the JSC workforce; statistical computations on work force health; maintenance of membership information; and providing patron usage information on employees of JSC contractors to their employer organizations.

DATES: Submit comments August 7, 2006.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

NASA 72 XOPR

SYSTEM NAME:

Johnson Space Center's Exchange Activities Records.

SECURITY CLASSIFICATION:

None.

SYSTEM LOCATION:

Location 5 as set forth in Appendix A.

CATEGORIES OF INDIVIDUALS COVERED BY THE SYSTEM:

Current and past civil servant employees of the Johnson Space Center (JSC), current and past JSC contractor employees, current and past JSC Exchange Operation employees, current and past military personnel or others assigned to JSC (per an IPA, MOU, etc.), current and past civil servants and Contractors on TDY from other NASA centers, spouses and dependents of any of the defined above and any other personnel authorized to use the Exchange services and participate in sports or special activities sponsored by the Exchange, and student applicants under the JSC Exchange Scholarship Program.

CATEGORIES OF RECORDS IN THE SYSTEM:

For present and past employees of the JSC Exchange Operations, the system includes a variety of records relating to personnel actions and determinations made about an individual while employed by the NASA Exchange-JSC. These records contain information about an individual relating to birth date; Social Security Number; home address and telephone number; marital status; references; veteran preference, tenure, handicap; position description, past and present salaries, payroll deductions, leave; letters of commendation and reprimand; adverse actions, charges and decisions on charges; notice of reduction in force; personnel actions, including but not limited to, appointment, reassignment, demotion, detail, promotion, transfer and separation; minority group; records relating to life insurance, health and retirement benefits, designation of beneficiary; training; performance ratings; physical examination; criminal matters; data documenting the reasons for personnel actions or decisions made about an individual; awards; and other information relating to the status of the individual.

For successful applicants under the JSC Exchange Scholarship Program, the system contains financial transactions or holdings, employment history, medical data and other related information supplied by the individual Center employees who applied for the Exchange Scholarship.

For participants in social, sports, wellness activities and other similar activities sponsored by the Exchange, information includes birth date; e-mail, home address and telephone number; height; weight; body composition, fitness, and exercise measures; medical history and physician release as it pertains to exercise; emergency contact information; organizational code; employee identification number; facility usage records; patron usage; accounts receivable records; membership applications; other special activities applications, and all other pertinent information.

AUTHORITY FOR MAINTENANCE OF THE SYSTEM:

42 U.S.C. 2473; 44 U.S.C. 3101; NASA Policy Directive 9050.6; Treasury Fiscal Requirement Manual, Part III.

ROUTINE USES OF RECORDS MAINTAINED IN THE SYSTEM, INCLUDING CATEGORIES OF USERS AND THE PURPOSES OF SUCH USES:

The following are routine uses for information maintained on JSC Exchange Operations employees only: (1) Provide information in accordance with legal or policy directives and regulations to the Internal Revenue Service, Department of Labor, Department of Commerce, Texas State Government Agencies, labor unions; (2) provide information to insurance carriers with regard to worker's compensation, health and accident, and retirement insurance coverages; (3) provide employment or credit information to other parties as requested by a current or former employee of the JSC Exchange Operations; and (4) standard routine uses 1 through 4 inclusive as set forth in Appendix B. The following routine use for information maintained on participants in social, sports, or wellness activities sponsored by the Exchange: (1) Patron usage is provided on employees of JSC contractors to their employer organizations, and (2) standard routine uses 1 through 4 inclusive as set forth in Appendix B.

POLICIES AND PRACTICES FOR STORING, RECEIVING, ACCESSING, RETAINING, AND DISPOSING OF RECORDS IN THE SYSTEM:

STORAGE:

Hard-copy documents and electronic records in systems on secure JSC Servers.

RETRIEVABILITY:

For JSC Exchange employees, records are retrieved by name and filed as current or past employee. For Scholarship applicants, records are retrieved by name. For participants in social, sports, or wellness activities sponsored by the Exchange, records are retrieved by name and employer.

SAFEGUARDS:

Hard-copy records are located in locked metal file cabinets with access limited to those whose official duties require access. Electronic records are maintained in a password protected system, with access limited to those whose official duties require access.

RETENTION AND DISPOSAL:

All records are disposed of in accordance with NASA Retention Schedules, Schedule 9 Item 6/E. Personnel records of JSC Exchange operations employees are retained indefinitely in Agency space to satisfy payroll, reemployment, unemployment compensation, tax, and employee retirement purposes. For successful applicants under the JSC Exchange Scholarship Program, records are maintained until completion of awarded scholarship and are then destroyed. Records pertaining to unsuccessful applicants are returned to the individual. For participants in social, sports, or wellness activities sponsored by the Exchange, records are maintained for stated participation period and are then destroyed.

SYSTEM MANAGER(S) AND ADDRESS:

Manager, Exchange Operations, NASA Exchange-JSC, Location 5, as set forth in Appendix A.

NOTIFICATION PROCEDURE:

Individuals may obtain information from the System Manager.

RECORD ACCESS PROCEDURE:

Same as above.

CONTESTING RECORD PROCEDURES:

The NASA regulations for access to records and for contesting contents and appealing initial determinations by the individual concerned appear in 14 CFR part 1212.

RECORD SOURCE CATEGORIES:

For employees of the JSC Exchange Operations, information is obtained from the individual employee, the employee references, insurance carriers, JSC Space Medical Division, JSC Security, employment agencies, Texas Employment Commission, credit bureaus, and creditors.

With respect to the JSC Exchange Scholarship Program, the information is obtained from the parents or guardians of the scholarship participants.

For current and past civil servant employees of the Johnson Space Center (JSC), current and past JSC contractor employees, current and past Exchange Operation employees, current and past military personnel or others assigned to JSC (per an IPA, MOU, etc.), current and past Civil Servants and Contractors on TDY from other NASA centers, spouses and dependants of any of the defined above and any other personnel authorized to use the Exchange services, participate in social, sports, or wellness activities sponsored by the Exchange and other similar activities, information is obtained from the individual participant or their parent or guardian if it is a child under the age of 18.

John W. McManus,
Acting Chief Information Officer.

[FR Doc. E6-10653 Filed 7-6-06; 8:45 am]

BILLING CODE 7510-13-P